SECURITIES AND EXCHANGE COMMISSION

[File No. 500-1]

In the Matter of ConnectAJet.com, Inc.; Order of Suspension of Trading

October 1, 2007.

It appears to the Securities and Exchange Commission that the market for the securities of ConnectAJet.com, Inc. (“ConnectAJet”) may be reacting to manipulative forces or deceptive practices and that there is a lack of current and accurate information about ConnectAJet upon which an informed investment decision can be made. It also appears that there may be inaccurate assertions by ConnectAJet in publicly-disseminated press releases and on ConnectAJet's Web site about, among other things, the existence of the company's partnerships and affiliations with aviation companies.

ConnectAJet was quoted on the Pink Sheet under the ticker symbol CAJT. Recently, there have been advertisements in newspapers and on television, information mailers, spam e-mails and a blast fax touting the company's shares.

The Commission is of the opinion that the public interest and the protection of investors require a suspension of trading in the securities of the above-listed company.

Therefore, it is ordered, pursuant to section 12(k) of the Securities Exchange Act of 1934, that trading in the above-listed company is suspended for the period from 9:30 a.m. EDT, October 1, 2007 through 11:59 p.m. EDT, on October 12, 2007.

By the Commission.
J. Lynn Taylor,
Assistant Secretary.

[FR Doc. 07-4916 Filed 10-1-07; 11:45 am]

BILLING CODE 8011-01-P